DEPARTMENT OF HEALTH AND HUMAN SERVICES

Food and Drug Administration

Statement of Organization, Functions, and Delegations of Authority

AGENCY: Food and Drug Administration, HHS.

ACTION: Notice.

SUMMARY: The Food and Drug Administration (FDA), Office of Operations (OO), Office of Talent Solutions (OTS) has modified its structure, and the Office of FDA Commissioned Corps (OFCC) was established. These new organizational structures were approved by the Deputy Secretary of Health and Human Services on September, 26, 2022, and effective on November, 2, 2022.

FOR FURTHER INFORMATION CONTACT: Tiffany Branch, Associate Director for Management, Office of Enterprise Management Services, Office of Operations, Food and Drug Administration, 3 White Flint North, 11601 Landsdown Street, North Bethesda, MD 20852, 240-402-3156.

SUPPLEMENTARY INFORMATION:

I. Introduction

Part D, Chapter D-B, (Food and Drug Administration), the Statement of Organization, Functions and Delegations of Authority for the Department of Health and Human Services (35 FR 3685, February 25, 1970, 60 FR 56606, November 9, 1995, 64 FR 36361, July 6, 1999, 72 FR 50112, August 30, 2007, 74 FR 41713, August 18, 2009, 76 FR 45270, July 28, 2011, and 84 FR 22854, May 20, 2019) is amended to reflect the reorganization of the OO, OTS and establishment of OO, OFCC.

This reorganization established the OO, OFCC. In the OTS immediate office realigned the Commissioned Corps Staff (CCS) functions and resources to OO, OFCC; established the Business Operations Staff; retitled the Policy and Accountability Staff to Policy, Programs, and Accountability Staff; and abolished the CCS.

In the Division of Talent Services, I (DTS I) retitled the division to Division of Talent Solutions I (DTS I); retitled the CDER Branch 1 to Recruitment and Staffing Branch 1; retitled the CDER Branch 2 to Recruitment and Staffing Branch 2; retitled the CDER Branch 3 to Recruitment and Staffing Branch 3 (RSB3); established the Recruitment and Staffing Branch 4; and established the Special Pay and Hiring Branch.

In the Division of Talent Services II (DTS II) retitled the division to Division of Talent Solutions II (DTS II); retitled the CFSAN and CVM Branch to Recruitment and Staffing Branch 5; retitled OC and NCTR Branch to Recruitment and Staffing Branch 6; retitled the OO Branch to Recruitment and Staffing Branch 7; established the Classification Branch 1; and established the Classification Branch 2.

In the Division of Talent Services III (DTS III) retitled the division to Division of Talent Solutions III (DTS III); realigned the CBER Branch functions and resources to DTS I/RSB3; realigned the CDRH Branch functions and resources to DTS II and retitled as Recruitment and Staffing Branch 8; realigned the CTP Branch functions and resources to DTS II and retitled as Recruitment and Staffing Branch 9; established the OTS/DTS III/Data Quality Branch 2; established the Data Quality Branch 3; and established Data Quality Branch 4.

In the Division of Talent Services IV (DTS IV) realigned the ORA Branch 1 functions to DTS III and retitled as the Recruitment and Staffing Branch 10; realigned the ORA Branch 2 functions to DTS III and retitled as the Recruitment and Staffing Branch 11; and abolished DTS IV.

In the Division of Talent Sourcing and Staffing (DTSS) realigned the Corporate Recruitment and Title 38 Branch functions and resources to the OTS Immediate Office Executive Resources Staff and retitled as the Scientific Programs and Executive Resources Staff; realigned the Scientific Staffing and Outreach Branch functions and resources to the OTS Immediate Office Scientific Talent Recruitment Staff and retitled as the Science, Technology, Engineering, and Mathematics Outreach Staff; realigned the Customer Care and Data Quality Branch functions and resources to DTS III and retitled as the Data Quality Branch 1; and abolished DTSS.

Under Part D, FDA, OO, OTS has been restructured as follows:

DCNJ. ORGANIZATION. The Office of Talent Solutions is headed by the FDA Chief Talent Officer and includes the following organizational units:

Business Operations Staff

Policy, Programs, and Accountability Staff

Scientific Programs and Executive Resources Staff

Science, Technology, Engineering, and Mathematics Outreach Staff

Division of Talent Solutions I

Recruitment and Staffing Branch 1

Recruitment and Staffing Branch 2

Recruitment and Staffing Branch 3

Recruitment and Staffing Branch 4

Special Hiring and Pay Branch

Division of Talent Solutions II

Recruitment and Staffing Branch 5

Recruitment and Staffing Branch 6

Recruitment and Staffing Branch 7

Recruitment and Staffing Branch 8

Recruitment and Staffing Branch 9

Classification Branch 1

Classification Branch 2

Division of Talent Solutions III

Recruitment and Staffing Branch 10

Recruitment and Staffing Branch 11

Delegated Examining Branch

Data Quality Branch 1

Data Quality Branch 2

Data Quality Branch 3

Data Quality Branch 4

Under Part D, FDA, OO has been restructured as follows:

DCNK. ORGANIZATION. The Office of FDA Commissioned Corps (OFCC) is headed by the Director of FDA Commissioned Corps.

II. Delegations of Authority

Pending further delegation, directives, or orders by the Commissioner of Food and Drugs, all delegations and redelegations of authority made to officials and employees of affected organizational components will continue in them or their successors pending further redelegations, provided they are consistent with this reorganization.

III. Electronic Access

This reorganization is reflected in FDA's Staff Manual Guide (SMG). Persons interested in seeing the complete SMG can find it on FDA's website at: http://www.fda.gov/AboutFDA/ReportsManualsForms/StaffManualGuides/default.htm

(Authority: 44 U.S.C. 3101.)

Xavier Becerra,
Secretary of Health and Human Services.

[FR Doc. 2023-01567 Filed 1-25-23; 8:45 am]

BILLING CODE 4164-01-P